DEPARTMENT OF LABOR

Employment and Training Administration

[TA-W-59,035]

Newstech PA, LP; Northampton, Pennsylvania; Notice of Termination of Investigation

Pursuant to section 221 of the Trade Act of 1974, as amended, an investigation was initiated on March 15, 2006 in response to a petition filed by a company official on behalf of workers of Newstech PA, LP, Northampton, Pennsylvania.

The petitioner has requested that the petition be withdrawn. Consequently, the investigation has been terminated.

Signed at Washington, DC this 17th day of March 2006.
Linda G. Poole,
Certifying Officer, Division of Trade Adjustment Assistance.

[FR Doc. E6-4857 Filed 4-3-06; 8:45 am]

BILLING CODE 4510-30-P